NUCLEAR REGULATORY COMMISSION

[NRC-2015-0120]

Selection of Material Balance Areas and Item Control Areas

AGENCY: Nuclear Regulatory Commission.

ACTION: Draft regulatory guide; reopening of comment period.

SUMMARY: On May 14, 2015, the U.S. Nuclear Regulatory Commission (NRC) solicited comments on DG 5057, “Special Nuclear Material Control and Accounting Systems for Non-Fuel Cycle Facilities. The public comment period closed on June 15, 2015. The NRC has decided to reopen the public comment period to allow more time for members of the public to develop and submit their comments.

DATES: The comment period for the document published on May 14, 2015 (80 FR 27709) has been reopened. Comments should be filed no later than July 31, 2015. Comments received after this date will be considered, if it is practical to do so, but the Commission is able to ensure consideration only for comments received on or before this date.

ADDRESSES: You may submit comments by any of the following methods (unless this document describes a different method for submitting comments on a specified subject):

• Federal rulemaking Web site: Go to http://www.regulations.gov and search for Docket ID NRC-2015-0120. Address questions about NRC dockets to Carol Gallagher; telephone: 301-415-3463; email: Carol.Gallagher@nrc.gov. For technical questions, contact the individuals listed in the FOR FURTHER INFORMATION CONTACT section of this document.

• Mail comments to: Cindy Bladey, Office of Administration, Mail Stop: OWFN-12-H08, U.S. Nuclear Regulatory Commission, Washington, DC 20555-0001.

For additional direction on accessing information and submitting comments, see “Obtaining Information and Submitting Comments” in the SUPPLEMENTARY INFORMATION section of this document.

FOR FURTHER INFORMATION CONTACT: Tom Pham, Office of Nuclear Material Safety and Safeguards, telephone: 301-415-7254, email address: Tom.Pham@nrc.gov, and Mekonen Bayssie, Office of Nuclear Regulatory Research, telephone: 301-415-1699, email address: Mekonen.Bayssie@nrc.gov; U.S. Nuclear Regulatory Commission, Washington, DC 20555-0001.

SUPPLEMENTARY INFORMATION:

I. Obtaining Information and Submitting Comments

A. Obtaining Information

Please refer to Docket ID NRC-2015-0120 when contacting the NRC about the availability of information for this action. You may obtain publically-available information related to this action by any of the following methods:

• Federal Rulemaking Web site: Go to http://www.regulations.gov and search for Docket ID NRC-2015-0120.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is mentioned. The draft regulatory guide is available electronically under ADAMS accession number ML15015A271. The regulatory analysis may be found in ADAMS under Accession No. ML15015A294.

Regulatory guides are not copyrighted and NRC approval is not required to reproduce them.

• NRC's PDR: You may examine and purchase copies of public documents at the NRC's PDR, Room O1-F21, One White Flint North, 11555 Rockville Pike, Rockville, Maryland 20852.

B. Submitting Comments

Please include Docket ID NRC-2015-0120 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

On May 14, 2015, the NRC solicited comments on Selection of Material Balance Areas and Item Control Areas.

The purpose of This DG provides guidance to licensees and applicants on the NRC's regulations concerning the material control and accounting of special nuclear material. The public comment period closed on June 15, 2015. The NRC has decided to reopen the public comment period on this document until July 31, 2015, to allow more time for members of the public to submit their comments.

Dated at Rockville, Maryland, this 24th day of June 2015.
For the Nuclear Regulatory Commission.
Thomas H. Boyce,
Chief, Regulatory Guidance and Generic Issues Branch, Division of Engineering, Office of Nuclear Regulatory Research.

[FR Doc. 2015-16130 Filed 6-30-15; 8:45 am]

BILLING CODE 7590-01-P